DEPARTMENT OF DEFENSE

Office of the Secretary of Defense

Defense Threat Reduction Agency (DTRA); Membership of the DTRA Performance Review Board (PRB)

AGENCY: Defense Threat Reduction Agency, Department of Defense.

ACTION: Notice of PRB membership.

SUMMARY: This notice announces the appointment of DTRA's PRB membership. The publication of the PRB membership is required by 5 U.S.C. 4314(c)(4). The PRB shall provide fair and impartial review of Senior Executive Service performance appraisals and make recommendations regarding performance ratings and performance awards to the Director, Defense Threat Reduction Agency.

EFFECTIVE DATE: The effective date of service for the appointees of the DTRA PRB is on or about September 27, 2001.

FOR FURTHER INFORMATION CONTACT: Tana Farrell, Workforce Development Branch, (703) 767-5759, Defense Threat Reduction Agency, 8725 John J. Kingman Road, Stop 6201, Ft. Belvoir, VA 22060-6201.

SUPPLEMENTARY INFORMATION: In accordance with 5 U.S.C. 4314(c)(4), the officials appointed to serve as members of the DTRA PRB are set forth below:

PRB Chair: Mr. Robert L. Brittigan.

Member: Mr. Myron K. Kunka.

Member: Mr. Michael K. Evenson.

The following DTRA officials will serve as alternate members of the DTRA PRB, as appropriate: Mr. Douglas Englund, Mr. Joe Golden, Mr. Richard Gullickson, Dr. Arthur Hopkins, Dr. Don Linger, Mr. Vayl Oxford, Ms. Joan Ma Pierre, Dr. Michael Shore, Ms. Ann Bridges Steely, Dr. Leon Wittwer.

Dated: September 13, 2001.
L.M. Bynum,
Alternate OSD Federal Register Liaison Officer, Department of Defense.

[FR Doc. 01-23371 Filed 9-19-01; 8:45 am]

BILLING CODE 5001-08-M